DEPARTMENT OF EDUCATION

National Assessment Governing Board

Committee and Quarterly Board Meetings

AGENCY: National Assessment Governing Board, Department of Education.

ACTION: Notice of open and closed meetings.

SUMMARY: This notice sets forth the agenda, time, and instructions to access the National Assessment Governing Board's (hereafter referred to as the Board or Governing Board) standing committee meetings and quarterly Governing Board meeting. This notice provides information to members of the public who may be interested in attending the meetings and/or providing written comments related to the work of the Governing Board. The meetings will be held either in person and/or virtually, as noted below. Members of the public must register in advance to attend the meetings virtually. A registration link will be posted on the Governing Board's website, www.nagb.gov, five (5) business days prior to each meeting.

DATES: The Quarterly Board Meeting will be held on the following dates:

• May 16, 2024, from 8:15 a.m. to 6:00 p.m., ET.

• May 17, 2024, from 9:00 a.m. to 2:15 p.m., ET.

ADDRESSES: Hotel AKA, 625, First Street, Alexandria, VA 22314.

FOR FURTHER INFORMATION CONTACT: Angela Scott, Designated Federal Officer (DFO) for the Governing Board, 800 North Capitol Street NW, Suite 825, Washington, DC 20002, telephone: (202) 357-7502, fax: (202) 357-6945, email: Angela.Scott@ed.gov.

SUPPLEMENTARY INFORMATION:

Statutory Authority and Function: The Governing Board is established under the National Assessment of Educational Progress Authorization Act (20 U.S.C. 9621). Information on the Governing Board and its work can be found at www.nagb.gov. Notice of the meetings is required under section 1009(a)(2) of 5 U.S.C. chapter 10 (Federal Advisory Committees). The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP reports.

Standing Committee Meetings

The Governing Board's standing committees will meet to conduct regularly scheduled work. Standing committee meeting agendas and meeting materials will be posted on the Governing Board's website, www.nagb.gov, no later than five (5) business days prior to the meetings. Minutes of prior standing committee meetings are available at https://www.nagb.gov/governing-board/quarterly-board-meetings.html.

Standing Committee Meetings:

Monday, May 6, 2024

Nominations Committee (Virtual)

5:00 p.m.-6:30 p.m. (ET), Open Session

The Nominations Committee will meet in open session on Monday, May 6, 2024, from 5:00 p.m.-6:30 p.m. The committee will review and discuss the rating guidelines for nominees, updates to the descriptions of Board membership categories, and updates to questions on the Board member application.

Wednesday, May 16, 2024

Executive Committee (In-Person Meeting)

8:15 a.m.-8:45 a.m. (ET) Open Session

The Executive Committee will meet in open session on Thursday, May 16, 2024, from 8:15 a.m.-8:45 a.m. to discuss the Strategic Vision update.

Assessment Development Committee (In-Person Meeting)

4:00 p.m.-6:00 p.m. (ET) Open Session

The Assessment Development Committee will meet in open session on Thursday, May 16, 2024, from 4:00 p.m.-6:00 p.m. From 4:00 p.m. to 4:45 p.m., the committee will discuss lessons learned from the update of the 2028 NAEP Science Framework. From 4:45 p.m. to 5:30 p.m., the committee will review considerations for the Assessment Framework Development Policy and Procedures manual. The committee will receive an update on the Social Studies Content Advisory Group from 5:30 p.m. to 5:45 p.m., and from 5:45 p.m. to 6:00 p.m., the committee will have an open discussion on other committee work.

Committee on Standards, Design and Methodology (In-Person Meeting)

4:00 p.m.-6:00 p.m. (ET) Open Session

The Committee on Standards, Design and Methodology (COSDAM) will meet in open session on Thursday, May 16, 2024, from 4:00 to 6:00 p.m. From 4:00 p.m.-4:55 p.m., the committee will discuss inappropriate and appropriate interpretations of NAEP Achievement Levels for inclusion in a NAEP Achievement Levels Validity argument, a report currently under development. The group will then summarize prior discussions regarding practical significance of NAEP score differences in preparation for a joint session with the Reporting and Dissemination (R&D) committee. From 5:00 p.m.-6:00 p.m., COSDAM will join the R&D committee for an open session regarding shared goals towards NAEP analysis and reporting that improves interpretation of NAEP score changes and subgroup differences. COSDAM and the R&D committee will describe their perspectives and build a plan for collaborative activity.

Reporting and Dissemination Committee (In-Person Meeting)

4:00 p.m.-6:00 p.m. (ET) Open Session

The R&D committee will meet in open session on Thursday, May 16, 2024, from 4:00 p.m. to 6:00 p.m. From 4:00 p.m.-5:00 p.m., the committee will discuss progress made on implementing the Governing Board's communications strategy and will then transition to a discussion about how to improve private school participation rates in NAEP. From 5:00 p.m.-6:00 p.m., the R&D committee will meet in joint session with COSDAM, as noted in the previous section.

Quarterly Governing Board Meeting

The plenary sessions of the Governing Board's May 2024 quarterly meeting will be held on the following dates and times:

Thursday, May 16, 2024

9:00 a.m.-6:00 p.m. (ET) (Hybrid Meeting), Open Session

On Thursday, May 16, 2024, the plenary session of the quarterly Governing Board meeting will convene in open session from 9:00 a.m.-6:00 p.m. From 9:00-9:15 a.m., Beverly Perdue, Chair of the Governing Board, will welcome members, followed by a motion to approve the meeting agenda for the May 16-17, 2024, quarterly Governing Board meeting and the minutes from the February 29-March 1, 2024, Governing Board meeting. From 9:15 a.m. to 9:45 a.m., Lesley Muldoon, Governing Board Executive Director, will provide remarks. From 9:45 a.m. to 10:45 a.m., Chair Perdue and Executive Director Muldoon will lead a discussion about NAGB's legislative authority. From 10:45 a.m. to 11:00 a.m., Chair Perdue will recommend the Board form an Ad Hoc Committee on Generative Artificial Intelligence (AI) and discuss the Chair's proposed charge to the committee outlining its responsibilities to recommend policy guidelines for the responsible use of in NAEP. The Board will take action to approve the charge and form the Ad Hoc Committee. From 11:00 a.m. to 12:00 p.m., the Board will hear and respond to a presentation on AI and Large-Scale Assessment: Perspectives from PISA. The Board will receive an update and discuss Strategic Vision 2030 from 12:15 p.m. to 1:15 p.m. Following a ten-minute transitional break, the Board will convene in small groups from 1:25 p.m. to 2:30 p.m. to discuss the draft Strategic Vision 2023 document. Following a fifteen-minute transitional break, the Board will reconvene in general session from 2:45-3:45 p.m. to debrief on the small group discussions. The Board's standing committees will meet from 4:00 p.m. to 6:00 p.m. The Thursday, May 16, 2024, session of the Governing Board meeting will adjourn at 6:00 p.m.

Friday, May 17, 2024

9:00 a.m.-12:30 p.m. (ET) (Hybrid Meeting), Open Session

12:45 p.m.-2:15 p.m. (ET) (Hybrid Meeting), Closed Session

On Friday, May 17, 2024, the Governing Board will convene in open session from 9:00 a.m.-10:00 a.m. to hear perspectives from student representatives from State Boards of Education on learning and assessment. From 10:00 a.m. to 10:30 a.m., the Governing Board will receive an update on work of each standing committee. Peggy Carr, NCES Commissioner, will provide an update from 10:30 a.m. to 10:45 a.m., followed by an update and discussion on the 2024 NAEP Administration from 10:45 a.m. to 11:45 a.m. From 11:45 a.m. to 12:15 p.m., Board members will engage in open discussion. From 12:15 p.m. to 12:30 p.m., there will be a preview of activities planned for the August 2024 meeting. After a break from 12:30 p.m. to 12:45 p.m., the Board will meet in closed session to receive an update on the NAEP budget and contracts from Peggy Carr, Commissioner, NCES, and Dan McGrath, Delegated Authority of Associate Commissioner, NCES. This session must be closed because discussions pertain to the federal budget and acquisition process. Public disclosure of this confidential information would significantly impede implementation of the NAEP assessment program if conducted in open session. Such matters are protected by exemption 9(B) of the Government Sunshine Act, 5 U.S.C. 552b.

The Friday, May 17, 2024, session of the meeting will adjourn at 2:15 p.m.

Instructions for Accessing and Attending the Meetings

Registration: Members of the public may attend the May 16-17, 2024, meetings of the full Governing Board either in person or virtually. A link to the final meeting agenda and information on how to register for virtual attendance for the open sessions will be posted on the Governing Board's website, www.nagb.gov, no later than five (5) business days prior to the meeting. Registration is required to join the meeting virtually.

Public Comment: Written comments related to the work of the Governing Board and its standing committees may be submitted to the attention of the DFO no later than close of business on May 10, 2024. Written comments may be submitted either via email to Angela.Scott@ed.gov or in hard copy to the address listed above. Written comments should reference the relevant agenda item.

Access to Records of the Meeting: Pursuant to 5 U.S.C. 1009, the public may inspect the meeting materials, which will be posted no later than five (5) business days prior to each meeting, at www.nagb.gov. The public may also inspect the meeting materials and other Governing Board records at 800 North Capitol Street NW, Suite 825, Washington, DC 20002, by emailing Angela.Scott@ed.gov to schedule an appointment. The official verbatim transcripts of the open meeting sessions will be available for public inspection no later than 30 calendar days following each meeting and will be posted on the Governing Board's website. Requests for the verbatim transcriptions may be made via email to the DFO.

Reasonable Accommodations: The meeting location is accessible to individuals with disabilities. If you will need an auxiliary aid or service to participate in the meeting (e.g., interpreting service, assistive listening device, or materials in an alternate format), notify the DFO listed in this notice by close of business on May 10, 2024.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III, section 301—National Assessment of Educational Progress Authorization Act (20 U.S.C. 9621).

Lesley Muldoon,
Executive Director, National Assessment Governing Board (NAGB), U.S. Department of Education.

[FR Doc. 2024-09695 Filed 5-2-24; 8:45 am]

BILLING CODE 4000-01-P